DEPARTMENT OF TRANSPORTATION

Federal Aviation Administration

14 CFR Part 39

[Docket No. 2000-CE-09-AD]

RIN 2120-AA64

Airworthiness Directives; Raytheon Aircraft Company Beech Models 45 (YT-34), A45 (T-34A, B-45), and D45 (T-34B) Airplanes

ACTION: Notice of proposed rulemaking (NPRM).

SUMMARY: This document proposes to supersede Airworthiness Directive (AD) 99-12-02, which currently requires flight and operating limitations on Raytheon Aircraft Corporation (Raytheon) Beech Models 45 (YT-34), A45 (T-34A, B-45), and D45 (T-34B) airplanes. AD 99-12-02 resulted from a report of an in-flight separation of the right wing on a Raytheon Beech Model A45 (T-34A) airplane. The AD was issued as an interim action until the development of FAA-approved inspection procedures. Raytheon has developed such procedures. The proposed AD would: Require repetitive inspections of the wing spar assembly for cracks, with replacement of any wing spar assembly found cracked (unless the spar assembly has a crack indication in the filler strip where the direction of the crack is toward the outside of the filler strip); require reporting the results of the initial inspection; and change the flight and operating limitations that AD 99-12-02 currently requires.

The actions specified by the proposed AD are intended to detect and correct cracks in the wing spar assemblies and assure the operational safety of the above-referenced airplanes.

DATES: The Federal Aviation Adminstration (FAA) must receive any comments on the proposed rule on or before July 7, 2000.

ADDRESSES: Submit comments in triplicate to FAA, Central Region, Office of the Regional Counsel, Attention: Rules Docket No. 2000-CE-09-AD, 901 Locust, Room 506, Kansas City, Missouri 64106.

You may get the service information referenced in the proposed AD from Raytheon Aircraft Company, P.O. Box 85, Wichita, Kansas 67201-0085; telephone: (800) 429-5372 or (316) 676-3140. You may examine this information at the Rules Docket at the address above.

FOR FURTHER INFORMATION CONTACT: Paul Nguyen, Aerospace Engineer, FAA, Wichita Aircraft Certification Office, 1801 Airport Road, Mid-Continent Airport, Wichita, Kansas 67209; telephone: (316) 946-4125; facsimile: (316) 946-4407.

SUPPLEMENTARY INFORMATION:

Comments Invited

The FAA invites comments on this proposed rule. You may submit whatever written data, views, or arguments you choose. You need to include the rule's docket number and submit your comments in triplicate to the address specified under the caption ADDRESSES.The FAA will consider all comments received on or before the closing date. We may amend the proposed rule in light of comments received. Factual information that supports your ideas and suggestions is extremely helpful in evaluating the effectiveness of the proposed AD action and determining whether we need to take additional rulemaking action.

We believe that the proposed regulation may have a significant economic impact on a substantial number of small entities. Due to the urgent nature of the safety issues addressed, FAA has been unable to complete a preliminary regulatory flexibility analysis prior to issuance of the NPRM. We anticipate including the final regulatory flexibility analysis and determination with the final rule, if adopted. To assist in this analysis, we are particularly interested in receiving information on the impact of the proposed rule on small businesses and suggested alternative methods of compliance that will reduce or eliminate such impacts. All communications received on or before the closing date for comments, specified above, will be considered before taking action on the proposed rule. The proposals contained in this notice may be changed in light of the comments received.

The FAA is re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

If you want us to acknowledge the receipt of your comments, you must include a self-addressed, stamped postcard. On the postcard, write “Comments to Docket No. 2000-CE-09-AD.” We will date stamp and mail the postcard back to you.

Discussion

Has FAA taken any action to this point? In-flight separation of the right wing on a Raytheon Beech Model A45 (T34A) airplane caused us to issue AD 99-12-02, Amendment 39-11193 (64 FR 31689, June 14, 1999). This AD requires:

—Incorporating flight and operating limitations that restrict the airplanes to normal category operation and prohibit them from acrobatic and utility category operations;

—Limiting the flight load factor to 0 to 2.5 G; and

—Limiting the maximum airspeed to 175 miles per hour (mph) (152 knots).

AD 99-12-02 was issued as an interim action until the development of FAA-approved inspection procedures.

What has happened since AD 99-12-02 to initiate this action? Raytheon has developed procedures to inspect the wing spar assemblies on Raytheon Beech Models 45 (YT-34), A45 (T-34A, B-45), and D45 (T-34B) airplanes. We have reviewed and approved the technical aspects of these procedures.

Is there service information that applies to this subject? Raytheon has issued Mandatory Service Bulletin No. SB 57-3329, Issued: February, 2000.

What are the provisions of this service bulletin? The service bulletin:

—Includes procedures for inspecting the forward (main) and aft (rear) wing spar assemblies of the above-referenced airplanes; and

—Specifies provisions for when to replace a cracked wing spar assembly.

The service bulletin specifies that a crack indication in the filler strip is allowed if the direction of the crack is toward the outside edge of the filler strip. If the direction of the crack is toward the inside of the filler strip or any crack is found in any other area, the service bulletin specifies replacing the spar assembly prior to further flight.

The FAA's Determination and Explanation of the Provisions of the Proposed AD

What has FAA determined? After examining the circumstances and reviewing all available information related to the incidents described above, including the relevant service information, FAA has determined that:

—An unsafe condition is likely to exist or develop in other Raytheon Beech Models 45 (YT-34), A45 (T-34A, B-45), and D45 (T-34B) airplanes of the same type design;

—The actions of the above-referenced service bulletin should be accomplished on the affected airplanes;

—When these actions are accomplished, the flight and operating restrictions that AD 99-12-02 requires may be changed as specified in this proposed AD; and

—AD action should be taken to detect and correct cracks in the wing spar assemblies and assure the operational safety of the above-referenced airplanes.

What would the proposed AD require? The proposed AD would supersede AD 99-12-02 and would:

—Require you to repetitively inspect the wing spar assemblies for cracks and replace any cracked wing spar assembly. A crack indication in the filler strip is allowed if the direction of the crack is toward the outside edge of the filler strip;

—Require you to report the results of the initial inspection;

—Require you to maintain the flight and operating restrictions that AD 99-12-02 currently requires until you accomplish the initial inspection and possible replacement proposed in this AD; and

—Allow you to change the flight and operating restrictions that AD 99-12-02 currently requires after the wing spar assemblies are inspected and the wing spar assembly either is replaced, is crack free, or only has a crack indication in the filler strip where the direction of the crack is toward the outside of the filler strip.

Are there differences between the proposed AD and the service information? Raytheon Mandatory Service Bulletin No. SB 57-3329, Issued: February, 2000, specifies that you accomplish the initial inspection prior to further flight after receipt. We do not have justification for requiring the initial inspection prior to further flight. Instead, we have determined that 80 hours time-in-service (TIS) or 12 months (whichever occurs first) is a reasonable time period for accomplishing the initial inspection in this AD. We will retain the flight and operating restrictions that AD 99-12-02 currently requires until this inspection is accomplished.

Why is the compliance of the initial inspection in hours time-in-service (TIS) and calendar time? We have established the compliance time of the initial inspection at the next 80 hours TIS or 12 months time with the prevalent one being that which occurs first. This would assure that cracks are detected on high usage airplanes while the owners/operators of the lower usage airplanes would have additional time to accomplish the action (up to 12 months). Having the inspection accomplshed on all airplanes within 12 months would assure that all wing spar cracks on the affected airplanes are detected in a reasonable time period, while not inadvertently grounding the affected airplanes. The FAA has determined that the dual compliance time will assure that the safety issue is addressed in a timely manner without inadvertently grounding any of the affected airplanes.

Cost Impact

How many airplanes does the proposed AD impact? The FAA estimates that 476 airplanes in the U.S. registry would be affected by the proposed AD.

What is the cost impact of the initial inspection on owners/operators of the affected airplanes? We estimate that it would take approximately 241 workhours per airplane to accomplish the proposed initial inspection, at an average labor rate of $60 an hour. Based on these figures, FAA estimates the cost impact of the proposed initial inspection on U.S. operators at $6,882,960, or $14,460 per airplane.

What about the cost of repetitive inspections and replacements? The figures above only take into account the cost of the proposed initial inspection and do not take into account the cost of repetitive inspections or the cost to replace a cracked wing spar assembly. The FAA has no way of determining the number of repetitive inspections each owner/operator would incur over the life of an affected airplane or the number of airplanes that would have a cracked wing spar(s) and need replacement.

The cost of each repetitive inspection would be $1,860 per airplane (31 workhours × $60 per hour).

Raytheon no longer produces wings spars for the affected airplanes. If a wing spar was found cracked, you would have to install an FAA-approved wing spar configuration in order to continue to operate the airplane. For cost estimate purposes, we are using information on installing a Raytheon Beech 55 or 58 series airplane wing spar on a Raytheon Beech Model A45 airplane in accordance with Supplemental Type Certificate (STC) No. SA5521NM. Nogle and Black Aviation, Inc., owns this STC. The cost to replace a cracked wing spar through this STC would be $14,100 (160 workhours × $60 per hour plus $4,500 for parts). The airplane would still be subject to the inspection requirements proposed in this NPRM.

Regulatory Impact

The regulations proposed herein would not have a substantial direct effect on the States, on the relationship between the national government and the States, or on the distribution of power and responsibilities among the various levels of government. Therefore, it is determined that this proposed rule would not have federalism implications under Executive Order 13132.

For the reasons discussed above, I certify that this proposed action (1) is not a “significant regulatory action” under Executive Order 12866; and (2) is not a “significant rule” under DOT Regulatory Policies and Procedures (44 FR 11034, February 26, 1979). This proposed rule, if adopted, may have a significant economic impact on a substantial number of small entities under the criteria of the Regulatory Flexibility Act. We are currently conducting a Regulatory Flexibility Determination and Analysis. We are considering alternative methods of compliance to the proposed AD that could minimize the impact on small entities. We specifically invite comments in this area.

At this point, we have determined that AD action is the best course to address the unsafe condition specified in this document. We have also determined that the situation does not warrant waiting for the completion of the Regulatory Flexibility Determination and Analysis before we issue the NPRM. We will place a copy of the completed Regulatory Flexibility Determination and Analysis in the Docket file. You may obtain this information at the address specified in the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends Section 39.13 by removing Airworthiness Directive (AD) 99-12-02, Amendment 39-11193 (64 FR 31689, June 14, 1999), and by adding a new AD to read as follows:

Raytheon Aircraft Company: Docket No. 2000-CE-09-AD; Supersedes AD 99-12-02, Amendment 39-11193.

(a) What airplanes are affected by this AD? This AD applies to Beech Models 45 (YT-34), A45 (T-34A, B-45), and D45 (T-34B) airplanes, all serial numbers, certificated in any category.

(b) Who must comply with this AD? Anyone who wishes to operate any of the above airplanes on the U.S. Register must comply with this AD.

(c) What problem does this AD address? The actions specified by this AD are intended to detect and correct cracks in the wing spar assemblies and assure the operational safety of the above-referenced airplanes.

(d) What actions must I accomplish to address this problem? To address this problem, you must accomplish the following:

(1) Actions retained from AD 99-12-02:

Action | When | In accordance with
I. Placard requirements: Fabricate two placards using letters of at least \1/10\-inch in height with each consisting of the following words: “Never exceed speed, Vne-175 MPH (152 knots) IAS; Normal Acceleration (G) 1999 Limits −0, and +2.5; ACROBATIC MANEUVERS PROHIBITED.” Install these placards on the airplane instrument panels (one on the front panel and one on the rear panel) next to the airspeed indicators within the pilot's clear view. Insert a copy of this AD into the Limitations Section of the Airplane Flight Manual (AFM). | I. All actions prior to further flight with after July 9, 1999 (the effective date of AD 99-12-02) | I. Not Applicable.
II. Modification requirements: Modify the airspeed indicator glass by accomplishing the following: 1. Place a red radial line on the indicator glass at 175 miles per hour (mph) (152 knots). 2. Place a white slippage index mark between the airspeed indicator glass and the case to visually verify that the glass has not rotated. | II. All actions required within 10 hours time-in-service (TIS) after July 9, 1999 (the effective date of AD 99-12-02) | II. Not Applicable.
Mark the outside surface of the “g” of meters with lines of approximately \1/16\-inch by \3/16\-inch, as follows: 1. A red line at 0 and 2.5; and 2. A white slippage mark between each “g” meter glass and case to visually verify that the glass has not rotated.

(2) Actions New to this AD:

Action | When | In accordance with
I. Inspect the wing spar assemblies for cracks. | I. Initially at whichever occurs first: —Within 80 hours time-in-service (TIS) after the effective date of this AD; or —Within 12 months after the effective date of this AD | I. Raytheon Mandatory Service Bulletin No. SB 57-3329, Issued: February, 2000.
| Repetitively inspect thereafter at intervals not to exceed 80 hours TIS
II. Replace any cracked wing spar assembly. A crack indication in the filler strip is allowed if the direction of the crack is toward the outside edge of the filler strip. If the direction of the crack is toward the inside of the filler strip or any crack is found in any other area, you must replace the cracked wing spar assembly prior to further flight. | II. Prior to further flight after the required inspection where the cracked wing spar assembly is found | II. The applicable maintenance manual.
III. Submit a report to the FAA that describes the damage found on the wing spar. Use the chart on pages 58 through 60 of Raytheon Mandatory Service Bulletin No. SB 57-3329, Issued: February, Submit this report even if no cracks are found. | III. Within 10 days after the initial inspection or within 10 days after the effective date of the AD, whichever occurs later | III. Pages 58 through 60 of Raytheon Mandatory Service Bulletin No. SB 57-3329, Issued: February, 2000.
IV. The flight and operating restrictions that were required by paragraph (d)(1) of this AD, as retained from AD 99-12-02, may be changed by accomplishing the following: Remove the placards, modifications, etc. required by paragraph (d)(1) of this AD, as retained from AD 99-12-02. | IV. All actions required prior to further flight after the initial inspection provided the wing spar assembly is either replaced, is crack free, or only has a crack indication in the filler strip where the direction of the crack is toward the outside of the filler strip | IV. Not applicable.
Fabricate two placards using letters of at least \1/10\-inch in height with each consisting of the following words: “Never exceed speed, Vne-225 MPH (219 knots) IAS; Normal Acceleration (G) Limits −0, +5.”
Install these placards on the airplane instrument panels (one on the front panel and one on the rear panel) next to the airspeed indicators within the pilot's clear view.
Modify the airspeed indicator glass by accomplishing the following:
1. Place a red radial line on the indicator glass at 225 miles per hour (mph) (219 knots).
2. Place a white slippage index mark between the airspeed indicator glass and the case to visually verify that the glass has not rotated.
Mark the outside surface of the “g” meters with lines of approximately \1/16\-inch by \3/16\-inch, as follows:
1. A red line at 0 and +5; and
2. A white slippage mark between each “g” meter glass and case to visually verify that the glass has not rotated.
Insert a copy of this AD into the Limitations Section of the AFM.

(e) Can I comply with this AD in any other way? (1) You may use an alternative method of compliance or adjust the compliance time if:

(i) Your alternative method of compliance provides an equivalent level of safety; and

(ii) The Manager, Wichita Aircraft Certification Office (ACO), approves your alternative. Submit your request through an FAA Principal Maintenance Inspector, who may add comments and then send it to the Manager, Wichita ACO.

(2) This AD applies to each aircraft identified in the preceding applicability provision, regardless of whether it has been modified, altered, or repaired in the area subject to the requirements of this AD. For aircraft that have been modified, altered, or repaired so that the performance of the requirements of this AD is affected, the owner/operator must request approval for an alternative method of compliance in accordance with paragraph (e)(1) of this AD. The request should include an assessment of the effect of the modification, alteration, or repair on the unsafe condition addressed by this AD; and, if you have not eliminated the unsafe condition, specific actions you propose to address it.

(3) Alternative methods of compliance approved in accordance with AD 99-12-02, which is superseded by this AD, are not approved as alternative methods of compliance with this AD.

(f) Where can I get information about any already-approved alternative methods of compliance? Contact Paul Nguyen, Aerospace Engineer, Wichita Aircraft Certification Office, FAA, 1801 Airport Road, Mid-Continent Airport, Wichita, Kansas 67209; telephone: (316) 946-4125; facsimile: (316) 946-4407.

(g) What if I need to fly the aircraft to another location to comply with this AD? The FAA can issue a special flight permit under sections 21.197 and 21.199 of the Federal Aviation Regulations (14 CFR 21.197 and 21.199) to operate your aircraft to a location where you can accomplish the requirements of this AD.

(h) How do I get copies of the documents referenced in this AD? You may obtain copies of the documents referenced in this AD from Raytheon Aircraft Company, P.O. Box 85, Wichita, Kansas 67201-0085. You may examine these documents at FAA, Central Region, Office of the Regional Counsel, 901 Locust, Room 506, Kansas City, Missouri 64106.

(i) Does this AD action affect any existing AD actions? This amendment supersedes AD 99-12-02, Amendment 39-11193.

Issued in Kansas City, Missouri, on April 27, 2000.
Michael Gallagher,
Manager, Small Airplane Directorate, Aircraft Certification Service.

[FR Doc. 00-11179 Filed 5-4-00; 8:45 am]

BILLING CODE 4910-13-P